DEPARTMENT OF HOMELAND SECURITY

Federal Emergency Management Agency

[Docket ID FEMA-2014-0012; OMB No. 1660-0004]

Agency Information Collection Activities: Submission for OMB Review; Comment Request; Application for Participation in the National Flood Insurance Program (NFIP)

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 7, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Washington, DC 20472-3100, facsimile number (202) 212-4701, or email address FEMA-Information-Collections-Management@dhs.gov.

SUPPLEMENTARY INFORMATION:

Collection of Information

Title: Application for Participation in the National Flood Insurance Program (NFIP).

Type of information collection: Revision of a currently approved information collection.

OMB Number: 1660-0004.

Form Titles and Numbers: FEMA Form 086-0-30, Application for Participation in the National Flood Insurance Program.

Abstract: The National Flood Insurance Program (NFIP) provides flood insurance to the communities that apply for participation and make a commitment to adopt and enforce land use control measures that are established to reduce risk to people and property in flood-prone areas. The application form and supporting documentation will enable FEMA to continue to rapidly process new community applications and to thereby more quickly provide flood insurance protection to the residents in these communities.

This collection has been updated to account for the burden hours associated with the communities' floodplain development permitting process. To qualify for the NFIP, a participating community must adopt certain minimum standards in accordance with FEMA's regulations at 44 CFR 60.3, 60.4, and 60.5. In order to verify whether communities maintain such standards, the NFIP requires participating communities to retain documentation on development taking place in the flood hazard areas within the community. 44 CFR 59.22. Such information will be made available to FEMA upon request. This information assists FEMA in evaluating the effectiveness of a community's floodplain management program and, through that, the community's continuing eligibility to participate in the program. In the past, the NFIP application did not account for burden hours associated with this collection of information.

The Application for Participation in the NFIP and the Community Development Permit Process are separate actions documented under the same collection.

Affected Public: State, local or Tribal Government.

Estimated Number of Respondents: 20,344.

Estimated Total Annual Burden Hours: 221,121 hours.

Estimated Cost: The estimated annual cost to respondents for the hour burden is $9,382,164.30. There are no annual costs to respondents operations and maintenance costs for technical services. There is no annual start-up or capital costs. The cost to the Federal Government is $74,788.

Dated: May 28, 2014.
Charlene D. Myrthil,
Director, Records Management Division, Mission Support Bureau, Federal Emergency Management Agency, Department of Homeland Security.

[FR Doc. 2014-13090 Filed 6-4-14; 8:45 am]

BILLING CODE 9110-12-P